DEPARTMENT OF ENERGY

[OE Docket No. EA-286-A]

Application To Export Electric Energy; Avista Energy, Inc.

AGENCY: Office of Electricity Delivery and Energy Reliability, DOE.

ACTION: Notice of Application.

SUMMARY: Avista Energy, Inc., (Avista) has applied to renew its authority to transmit electric energy from the United States to Canada pursuant to section 202(e) of the Federal Power Act.

DATES: Comments, protests or requests to intervene must be submitted on or before March 17, 2006.

ADDRESSES: Comments, protests, or requests to intervene should be addressed as follows: Office of Electricity Delivery & Energy Reliability, Mail Code: OE-20, U.S. Department of Energy, 1000 Independence Avenue, SW., Washington, DC 20585-0350 (FAX 202-586-5860).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a(e)).

On March 18, 2004, the Department of Energy (DOE) issued Order No. EA-286 authorizing Avista to transmit electric energy from the United States to Canada as a power marketer for a two year term.

On December 19, 2005, Avista filed an application with DOE for renewal of the export authority contained in Order No. EA-286 for an additional five-year term. Avista proposes to export electric energy to Canada and to arrange for the delivery of those exports over the international transmission facilities presently owned by the Bonneville Power Administration.

Procedural Matters

Any person desiring to become a party to these proceedings or to be heard by filing comments or protests to this application should file a petition to intervene, comment or protest at the address provided above in accordance with §§ 385.211 or 385.214 of the FERC's Rules of Practice and Procedures (18 CFR 385.211, 385.214). Fifteen copies of each petition and protest should be filed with the DOE on or before the dates listed above.

Comments on the Avista application to export electric energy to Canada should be clearly marked with Docket EA-286-A. Additional copies are to be filed directly with R. Blair Strong, Paine, Hamblem, Coffin, Brooke & Miller LLP, 717 West Sprague Avenue, Suite 1200, Spokane, Washington 99201-3505 and Dave Dickson, Vice President Energy Trading and Marketing, Avista Energy, Inc. 201 W. North River Drive, Suite 610, Spokane, WA 99201.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the program's Home Page at http://www.fe.doe.gov/programs/electricityregulation/. Upon reaching the Home page, scroll down and select “Pending Proceedings.”

Issued in Washington, DC, on February 10, 2006.
Anthony J. Como,
Director, Permitting and Siting, Office of Electricity Delivery & Energy Reliability.

[FR Doc. E6-2171 Filed 2-14-06; 8:45 am]

BILLING CODE 6450-01-P